DEPARTMENT OF COMMERCE

National Oceanic and Atmospheric Administration

RIN 0648-XG941

South Atlantic Fishery Management Council (Council)—Public Meetings

AGENCY: National Marine Fisheries Service (NMFS), National Oceanic and Atmospheric Administration (NOAA), Commerce.

ACTION: Notice of public hearings.

SUMMARY: The South Atlantic Fishery Management Council (Council) will hold public hearings via webinar pertaining to Regulatory Amendment 29 to the South Atlantic Snapper Grouper Fishery Management Plan (FMP). The amendment addresses best fishing practices and powerhead regulations.

DATES: The public hearings will be held via webinar on April 30 and May 1, 2019.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The public hearings will be conducted via webinar beginning at 6 p.m. Registration for the webinars is required. Registration information, public hearing documents, and other materials will be posted on the Council's website at http://safmc.net/safmc-meetings/public-hearings-scoping-meetings/ as they become available. An online public comment form will also be available and information on how to submit written comments posted to the website. Public comments must be received by 5 p.m. on May 10, 2019.

Regulatory Amendment 29 to the Snapper Grouper Fishery Management Plan

The draft amendment currently addresses the use of best fishing practices intended to improve survivorship of species in the snapper grouper management complex released due to regulatory requirements and other factors. Best practices under consideration include: The use of descending devices and/or venting devices to release fish experiencing barotrauma (injury due to expansion of gas when reeled up from depth), and modifications to current non-stainless steel circle hook requirements. Additionally, the draft amendment considers modifying powerhead regulations in the exclusive economic zone in the Council's area of jurisdiction.

During the public hearings, Council staff will present an overview of the amendment and will be available for informal discussions and to answer questions via webinar. Members of the public will have an opportunity to go on record to record their comments for consideration by the Council.

Special Accommodations

These meetings are physically accessible to people with disabilities. Requests for auxiliary aids should be directed to the council office (see ADDRESSES) 3 days prior to the meeting.

Note: The times and sequence specified in this agenda are subject to change.

Authority: 16 U.S.C. 1801 et seq.

Dated: April 4, 2019.
Tracey L. Thompson,
Acting Deputy Director, Office of Sustainable Fisheries, National Marine Fisheries Service.

[FR Doc. 2019-07016 Filed 4-8-19; 8:45 am]

BILLING CODE 3510-22-P